FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011075-066.

Title: Central America Discussion Agreement.

Parties: APL Co. PTE Ltd.; A.P. Moller-Maersk A/S; Crowley Liner Services, Inc.; Dole Ocean Cargo Express; Great White Fleet; King Ocean Services Limited; Lykes Lines Limited, LLC; and Seaboard Marine, Ltd.

Synopsis: The amendment adds Trinity Shipping Line, S.A. as a party to the agreement.

Agreement No.: 011796-001.

Title: CMA CGM/Lloyd Triestino Slot Exchange, Sailing and Cooperative Working Agreement.

Parties: CMA CGM, S.A. and Lloyd Triestino di Navigazione S.p.A.

Synopsis: The proposed modification would increase the number of vessels authorized under the agreement and revise the parties' space allocation.

Agreement No.: 011865-001.

Title: CMA CGM/LT Amerigo Express MUS Slot Charter Agreement.

Parties: CMA CGM, S.A. and Lloyd Triestino di Navigazione S.p.A.

Synopsis: The proposed modification would increase the number of TEUs being chartered. The parties request expedited review.

Dated: June 25, 2004.
By Order of the Federal Maritime Commission.
Bryant L. VanBrakle,
Secretary.

[FR Doc. 04-14878 Filed 6-29-04; 8:45 am]

BILLING CODE 6730-01-P